DEPARTMENT OF STATE

[Public Notice: 9598]

60-Day Notice of Proposed Information Collection: Application for a U.S. Passport: Corrections, Name Change Within 1 Year of Passport Issuance, and Limited Passport Holders

AGENCY: Department of State.

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to August 5, 2016.

ADDRESSES: You may submit comments by any of the following methods:

• Web: Persons with access to the Internet may comment on this notice by going to www.Regulations.gov. You can search for the document by entering “Docket Number: DOS-2016-0022” in the Search field. Then click the “Comment Now” button and complete the comment form.

• Email: PPTFormsOfficer@state.gov.

You must include the DS form number, information collection title, and the OMB control number in any correspondence.

FOR FURTHER INFORMATION CONTACT: Direct requests for additional information regarding the collection listed in this notice, including requests for copies of the proposed collection instrument and supporting documents, to PPT Forms Officer, U.S. Department of State, CA/PPT/S/L 44132 Mercure Cir, P.O. Box 1227, Sterling, VA 20166-1227, or at PPTFormsOfficer@state.gov.

SUPPLEMENTARY INFORMATION:

• Title of Information Collection: Application for a U.S. Passport: Correction, Name Change Within 1 Year of Passport Issuance, And Limited Passport Holders.

• OMB Control Number: 1405-0160.

• Type of Request: Revision of a Currently Approved Collection.

• Originating Office: Bureau of Consular Affairs, Passport Services, Office of Legal Affairs and Law Enforcement Liaison (CA/PPT/S/L).

• Form Number: DS-5504.

• Respondents: Individuals or Households.

• Estimated Number of Respondents: 136,833.

• Estimated Number of Responses: 136,833.

• Average Time per Response: 40 minutes per response.

• Total Estimated Burden Time: 91,222 hours per year.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

Under 22 United States Code (U.S.C.) Section 211a et seq. and Executive Order 11295 (August 5, 1966), the Secretary of State issues U.S. passports to U.S. citizens and non-citizen nationals. When the bearer of a valid U.S. passport applies for a new passport with corrected personal data or when the bearer of a limited validity passport applies for a fully-valid replacement passport, the Department must confirm the applicant's identity and eligibility before the Department can issue the new passport to the applicant. Form DS-5504 requests information needed to determine whether the applicant is eligible to receive this service in accordance with the requirements of Title III of the Immigration and Nationality Act (INA) (U.S.C. 1402-1504), the regulations at 22 CFR parts 50 and 51, and other applicable treaties and laws.

Methodology

Passport applicants can either download the DS-5504 from the internet or obtain one from an Acceptance Facility/Passport Agency. The form must be completed, signed, and submitted along with the applicant's valid U.S. passport and supporting documents for corrective action.

Additional Information

The Privacy Act statement has been amended to clarify that an applicant's failure to provide his or her Social Security number may result in the denial of an application, consistent with Section 32101 of the Fixing America's Surface Transportation Act (Pub. L. 114-94) which authorizes the Department to deny U.S. passport applications when the applicant failed to include his or her Social Security number. It also makes clear that failure to include one's Social Security number may also subject the applicant to a penalty enforced by the International Revenue Service. These requirements and the underlying legal authorities are further described on page 3 of the instructions titled “Federal Tax Law” which has also been amended to include a reference to Public Law 114-94.

Dated: May 24, 2016.
Brenda S. Sprague,
Deputy Assistant Secretary for Passport Services, Bureau of Consular Affairs, Department of State.

[FR Doc. 2016-13347 Filed 6-3-16; 8:45 am]

BILLING CODE 4710-06-P